FEDERAL COMMUNICATIONS COMMISSION

47 CFR Part 64

[CC Docket Nos. 04-53 and 02-278; FCC 04-194]

Rules and Regulations Implementing the Controlling the Assault of Non-Solicited Pornography and Marketing Act of 2003; Rules and Regulations Implementing the Telephone Consumer Protection Act of 1991; Correction

AGENCY: Federal Communications Commission.

ACTION: Final rule; correction.

SUMMARY: On September 16, 2004 (69 FR 55765), the Commission published final rules in the Federal Register to implement the Controlling the Assault of Non-Solicited Pornography and Marketing Act of 2003 (CAN-SPAM Act). These rules apply to the sending of commercial messages to addresses referencing an Internet domain name associated with wireless subscriber messaging services. This document corrects the subpart heading and adds the authority citation for the Commission's rules.

DATES: Effective October 8, 2004.

FOR FURTHER INFORMATION CONTACT: Ruth Yodaiken, of the Consumer & Governmental Affairs Bureau at (202) 418-2512 (voice), (202) 418-0416 (TTY), or e-mail Ruth.Yodaiken@fcc.gov.

SUPPLEMENTARY INFORMATION: The Federal Communications Commission published a document amending part 64 in the Federal Register on September 16, 2004, (69 FR 55765). This document corrects the “Rule Changes” section of the Federal Register summary as it appeared. In rule FR Doc. 04-20901 published on September 16, 2004 (69 FR 55765) make the following corrections:

PART 64—[CORRECTED]

1. On page 55779, in the second column, amendatory instruction no. 2, Subpart heading BB is corrected to read as follows:

Subpart BB—Restrictions on Unwanted Mobile Service Commercial Messages

2. On page 55779, in the second column the authority citation for Subpart BB is added to read as follows:

Authority: 15 U.S.C. 7701-7713, Public Law 108-187, 117 Stat. 2699.

Federal Communications Commission.
Marlene H. Dortch,
Secretary.

[FR Doc. 04-22495 Filed 10-7-04; 8:45 am]

BILLING CODE 6712-01-P